DEPARTMENT OF TRANSPORTATION

Office of the Secretary

[Docket No. DOT-OST-2008-0202]

Senior Executive Service Performance Review Boards Membership

AGENCY: Office of the Secretary, Department of Transportation (DOT).

ACTION: Notice of Performance Review Board (PRB) appointments.

SUMMARY: DOT publishes the names of the persons selected to serve on the various Departmental PRBs as required by 5 U.S.C. 4314(c)(4).

FOR FURTHER INFORMATION CONTACT: Nancy A. Mowry, Director, Departmental Office of Human Resource Management, (202) 366-4088.

SUPPLEMENTARY INFORMATION: The persons named below have been selected to serve on one or more Departmental PRBs.

Issued in Washington, DC, on June 30, 2008.
Linda J. Washington,
Assistant Secretary for Administration.

Department of Transportation

Federal Highway Administration

Alston, Sherri Y., Baxter, John R., Brown, Janice W., Conner, Clara H., Ewen, Paula D., Fong, Gene K., Furst, Anthony T., Gee, King W., Gibbs, David C., Grossman, Ian M., Halladay, Michael L., Henderson, Gary L., Hochman, Jill L., Holian, Thomas P., Horne, Dwight A., Johnson, Christine M., Judycki, Dennis C., Liff, Diane R., Lindley, Jeffrey A., Lwin, Myint, Marchese, April, McElroy, Regina, Paniati, Jeffrey F., Phillips, Mary B., Prosperi, Patricia A., Ray, James D., Ridenour, Melisa, Row, Shelley J., Shepherd, Gloria M., Sheridan, Margo, Skaer, Frederick C., Smith, Willie H., Stephanos, Peter J., Suarez, Ricardo, Toole, Joseph S., Toole, Patricia, Trentacoste, Michael.

Federal Motor Carrier Safety Administration

Griffith, Michael S., Hartman, Daniel, Horan, Charles A., Hugel, David, McMurray, Rose A., Minor, Larry W., Pelcovits, Pamela M., Quade, William A., Rohde, Suzanne Tebeau, Shelton, Terry T.

Federal Railroad Administration

Cothen, Grady C., Eby, Clifford, El-Sibaie, Magdy A., Haley, Michael T., Leeds, John G., Lindsey, Seth M., Logue, Michael J., Pritchard, Edward W., Reid, Margaret B., Strang, Jo E., Tessler, Mark, Yachmetz, Mark E.

Federal Transit Administration

Biehl, Scott A., Borinsky, Susan C., Doyle, Richard H., Hynes-Cherin, Brigid, Irvin, John W., Linnertz, Ann M., Little, Sherry E., Patrick, Robert C., Rogers, Leslie T., Schruth, Susan E., Simon, Marisol, Taylor, Yvette, Thompson, Letitia, Tuccillo, Robert J.

Maritime Administration

Bohnert, Roger V., Brohl, Helen, Byrne, Joseph, Caponiti, James E., Harrelson, Thomas W., Jones, Taylor E., Kumar, Shashi N., McKeever, Jean E., McMahon, Christopher J., Megginson, Elizabeth R., Pixa, Rand, Rivait, David J., Stewart, Joseph D., Weaver, Janice G.

National Highway Traffic Safety Administration

Abraham, Julie, Amoni, Marilena, Beuse, Nathaniel M., Carra, Joseph S., Cooke, Anthony, Demeter, Kathleen C., Guerci, Lloyd S., Harris, Claude H., Kanianthra, Joseph N., Kratzke, Stephen R., Markison, Marlene K., McLaughlin, Brian, McLaughlin, Susan, Medford, Ronald L., Michael, Jeffrey P., Monk, Michael W., O'Brien, Margaret, Pennington, Rebecca A., Ports, James F., Jr., Saul, Roger A., Simons, James F., Smith, Daniel C., Walter, Gregory A., Wood, Stephen P.

Office of Inspector General

Alves, Theodore P., Beitel, Richard C., Dettelbach, Brian A., Dobbs, David A., Lee, Charles H., Leng, Rebecca C., Tornquist, David, Zabarsky, Mark H.

Office of the Secretary

Allen, Bernestine, Brosnahan, Jennifer R., Cumber, Husein, DeCarme, David G., DeHaan, Robert A., Eisner, Neil R., Fields, George C., Geier, Paul M., Gretch, Paul L., Gros, Simon C., Henry, J. Richard, Herlihy, Thomas W., Heup, Ellen L., Homan, Todd M., Horn, Donald H., Horner, David B., Howard, Laurie, Huntley, Clarence Byrne, Hurdle, Lana T., Jones, Mary N., Kaleta, Judith S., Kendall, Quintin C., Knapp, Rosalind A., Lawson, Linda L., Lowder, Michael W., McDermott, Susan E., Mintz, Dan, Mowry, Nancy A., Neff, Lawrence Ira, Patillo, Jacquelyn R., Petrosino-Woolverton, Marie, Podberesky, Samuel, Privett, Lee A., Reynolds, Michael W., Rodriguez-Lopez, Denise, Schmidt, Robert T., Shaw, Michael E., Trujillo, J Michael, Turmail, Brian G., Washington, Linda J., Wells, John V.

Pipeline and Hazardous Materials Safety Administration

Brigham, Edward A., Edwards, Krista, Gerard, Stacey L., Kunz, David E., Richard, Robert, Wiese, Jeffrey D., Willke, Theodore L.

Research and Innovative Technology Administration

Brecht-Clark, Jan M., Chang, William J., Coonley, Philip S., Dillingham, Steven D., Ennis, Eileen, Keeler, Nelson H., Leone, Kelly, O'Donoghue, Thomas, Tompkins, Curtis J.

St. Lawrence Seaway Development Corporation

Middlebrook, Craig H., Pisani, Salvatore L.

Office of Inspector General (not Department of Transportation employees)

John Hartman, Department of Energy; Michael Delgado, Department of the Treasury; Melissa Heist, Environmental Protection Agency; Sara B. Gibson, Federal Deposit Insurance Corporation; Steve Hardsgrove, Department of the Interior; Robert Taylor, Department of the Treasury; Robert Young, Department of Agriculture; Karen L. Ellis, Department of Agriculture; Ben Wagner, Tennessee Valley Authority; Adrienne Rish, U.S. Agency for International Development; and Andrew Patchan, General Services Administration.

[FR Doc. E8-15415 Filed 7-7-08; 8:45 am]

BILLING CODE 4910-9X-P